NUCLEAR REGULATORY COMMISSION

[Docket No. 50-244]

Rochester Gas and Electric Corporation R.E. Ginna Nuclear Power Plant; Notice of Consideration of Approval of Transfer of Facility Operating License and Conforming Amendment and Opportunity for a Hearing

The U.S. Nuclear Regulatory Commission (NRC or the Commission) is considering the issuance of an order under 10 CFR 50.80 approving the transfer of Facility Operating License No. DPR-18 for the R.E Ginna Nuclear Plant (Ginna) currently held by Rochester Gas and Electric Corporation (RG&E), as owner and licensed operator of Ginna. The transfer would be to R.E. Ginna Nuclear Power Plant, LLC (Ginna LLC). The Commission is also considering amending the license for administrative purposes to reflect the proposed transfer.

According to a December 16, 2003, application for approval filed by RG&E and Constellation Generation Group, LLC, Ginna LLC would assume title to the facility following approval of the proposed license transfer, and would be responsible for the operation, maintenance, and eventual decommissioning of Ginna. No physical changes to the Ginna facility or operational changes are being proposed in the application. However, the license transfer is contingent upon NRC approval of the pending application to renew the operating license for Ginna for an additional 20 years beyond the current license expiration date of September 18, 2009.

The proposed amendment would replace references to RG&E in the license with references to Ginna LLC to reflect the new owner and make any other changes necessary to reflect the proposed transfer.

Pursuant to 10 CFR 50.80, no license, or any right thereunder, shall be transferred, directly or indirectly, through transfer of control of the license, unless the Commission shall give its consent in writing. The Commission will approve an application for the transfer of a license, if the Commission determines that the proposed transferee is qualified to hold the license, and that the transfer is otherwise consistent with applicable provisions of law, regulations, and orders issued by the Commission pursuant thereto.

Before issuance of the proposed conforming license amendment, the Commission will have made findings required by the Atomic Energy Act of 1954, as amended (the Act), and the Commission's regulations.

As provided in 10 CFR 2.1315, unless otherwise determined by the Commission with regard to a specific application, the Commission has determined that any amendment to the license of a utilization facility which does no more than conform the license to reflect the transfer action involves no significant hazards consideration. No contrary determination has been made with respect to this specific license amendment application. In light of the generic determination reflected in 10 CFR 2.1315, no public comments with respect to significant hazards considerations are being solicited, notwithstanding the general comment procedures contained in 10 CFR 50.91.

The filing of requests for hearing and petitions for leave to intervene, and written comments with regard to the license transfer application, are discussed below.

By February 11, 2004, any person whose interest may be affected by the Commission's action on the application may request a hearing and, if not the applicant, may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR Part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon James M. Petro, Counsel for Constellation Energy Group, 750 East Pratt Street, 5th Floor, Legal Department, Baltimore, MD 21201, (410) 783-3303, e-mail: James.Petro@constellation.com; James R. Curtiss, Counsel for Constellation Energy Group at Winston & Strawn, 1400 L St., NW., Washington, DC 20005, (202) 371-5751, e-mail: jcurtiss@winston.com; Samuel Behrends, Counsel for Rochester Gas and Electric Corporation, at LeBoeuf, Lamb, Greene and MacRae, 1875 Connecticut Avenue, NW., Washington, DC 20009, (202) 986-8018, e-mail: sbehrend@llgm.com; Daniel F. Stenger, Counsel for Rochester Gas and Electric Corporation, at Ballard Spahr Andrews & Ingersoll, LLP, 601 13th Street, NW., Suite 1000 South, Washington, DC 20005-3807, (202) 661-7617, e-mail: stengerd@ballardspahr.com; the General Counsel, U.S. Nuclear Regulatory Commission, Washington, DC 20555-0001 (e-mail address for filings regarding license transfer cases only: OGCLT@NRC.gov); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by February 23, 2004, persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the application dated December 16, 2003, available for public inspection at the Commission's Public Document Room (PDR), located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737 or by e-mail to pdr@nrc.gov.

Dated at Rockville, Maryland this 15th day of January 2004.

For the Nuclear Regulatory Commission.
Robert Clark,
Project Manager, Section 1, Project Directorate I, Division of Licensing Project Management, Office of Nuclear Reactor Regulation.

[FR Doc. 04-1319 Filed 1-21-04; 8:45 am]

BILLING CODE 7590-01-P